DEPARTMENT OF LABOR

Employment and Training Administration

[TA-W-65,642]

Hella Corporate Center, USA, Flora, IL; Notice of Termination of Investigation

Pursuant to Section 221 of the Trade Act of 1974, as amended, an investigation was initiated on March 20, 2009, in response to a petition filed by an Illinois State agency representative on behalf of workers of Hella Corporate Center, USA, Flora, Illinois.

The petitioning group of workers is covered by an active certification (TA-W-64,221 as amended) which expires on January 9, 2011. Consequently, further investigation in this case would serve no purpose, and the investigation has been terminated.

Signed at Washington, DC, this 6th day of May 2009.
Richard Church,
Certifying Officer, Division of Trade Adjustment Assistance.

[FR Doc. E9-13447 Filed 6-8-09; 8:45 am]

BILLING CODE 4510-FN-P